DEPARTMENT OF ENERGY

Federal Energy Regulatory Commission

[Project No. 2572-141]

Notice of Application Tendered for Filing With the Commission and Establishing Procedural Schedule for Licensing and Deadline for Submission of Final Amendments: Great Lakes Hydro America, LLC

Take notice that the following hydroelectric application has been filed with the Commission and is available for public inspection.

a. Type of Application: New Major License.

b. Project No.: 2572-141.

c. Date Filed: September 30, 2024.

d. Applicant: Great Lakes Hydro American, LLC (GLHA).

e. Name of Project: Ripogenus Hydroelectric Project (project).

f. Location: On the West Branch of the Penobscot River (West Branch) in Piscataquis and Penobscot Counties, Maine.

g. Filed Pursuant to: Federal Power Act, 16 U.S.C. 791(a)-825(r).

h. Applicant Contact: Michael Scarzello, Licensing Manager, Brookfield Renewable U.S., 399 Big Bay Road, Queensbury, NY 12804; (315) 566-0197; Michael.scarzello@brookfieldrenewable.com.

i. FERC Contact: Allan Creamer, Project Coordinator; telephone at (202) 502-8365; email at allan.creamer@ferc.gov.

j. The application is not ready for environmental analysis at this time.

k. Project Description: The Ripogenus Project is located about 21 river miles upstream of the Penobscot Mills Project, and consists of: (1) the Ripogenus impoundment, which (a) is about 20.8 miles long, (b) has a surface area of about 29,270 acres at a normal full pond elevation of 941.59 feet National Geodetic Vertical Datum of 1929 (NGVD 29), and (c) has a usable storage of about 688,705 acre-feet, with a maximum drawdown of 44 feet (to elevation 897.59 feet NGVD 29); and (2) Umbazooksus Lake, which has a surface area of 1,600 acres. Ripogenus Dam is 795 feet long and is located at the outlet of Ripogenus Lake. The dam includes two concrete spillway sections, an intake section, a gated sluice section, and an earthen section.

Water flows from the Ripogenus impoundment through an intake structure, which directs water through a tunnel and penstocks to the powerhouse (McKay Station). The powerhouse contains three turbine-generating units, with a total rated capacity of 37.5 megawatts. Power generated at the project is transmitted to the electric grid via three transformers and a 29.4-mile-long transmission line. An additional 0.75-mile-long transmission line extends from the McKay Substation to Ripogenus Dam. The Ripogenus Project also contains one battery energy storage site that is used to enhance system reliability. The Ripogenus Project is operated as a store-and-release development, with an annual seasonal drawdown that allows for management of water levels and flows downstream from the project. GLHA releases minimum flows into the dewatered section of the West Branch downstream from Ripogenus Dam, as well as flows through the McKay Station generating units to protect aquatic habitat and to provide whitewater boating opportunities. GLHA also releases flows to the West Branch during outages of the generating units, and diverts flow to the Holbrook Side Channel to enhance aquatic habitat. The project provides some capacity to store water to reduce downstream flooding, as well as storage releases during droughts. Additional details regarding the Ripogenus Project facilities and operations can be found in Exhibit A (Ripogenus Project) and Exhibit B of the license application, and can be accessed by following the instructions in paragraph l.

GLHA proposes to continue to operate the Ripogenus Project as a store-and-release facility. GLHA would continue to release flows ranging between 12 cubic feet per second (cfs) and 100 cfs from Ripogenus Dam to the bypassed reach, provide a station outage flow of 400 cfs downstream from McKay Station, continue to operate and maintain the Holbrook Side Channel as habitat for salmon and brook trout, maintain the 200-foot conservation buffer and 100-foot vegetation buffer around the Ripogenus impoundment, and maintain Umbazooksus Lake as wetland and wildlife habitat. In addition, GLHA proposes to provide a year-round minimum flow of 1,700 cfs downstream from McKay Station for aquatic habitat; provide seasonally-adjusted flows for whitewater boating; fund the installation, operation, and maintenance of a USGS flow gauge downstream from McKay Station (near Big Eddy); post impoundment level and flow information on Brookfield's existing SafeWaters website; and develop a recreation plan, shoreline management plan, loon management plan, and historic properties management plan.

l. In addition to publishing this notice in the Federal Register, the Commission provides all interested persons an opportunity to view and/or print the contents of this notice, as well as other documents in the proceeding (e.g., license application) via the internet through the Commission's Home Page (http://www.ferc.gov), using the “eLibrary” link. Enter the docket number, excluding the last three digits in the docket number field to access the document (P-2572). For assistance, contact FERC at FERCOnlineSupport@ferc.gov, (866) 208-3676 (toll free), or (202) 502-8659 (TTY). You may also register online at https://ferconline.ferc.gov/FERCOnline.aspx to be notified via email of new filings and issuances related to this or other pending projects. For assistance, contact FERC Online Support.

m. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595, or OPP@ferc.gov.

n. Procedural Schedule: The application will be processed according to the following preliminary schedule. Revisions to the schedule will be made as appropriate.

Deficiency Letter—October 2024

Additional Information Request—November 2024

Notice of Acceptance—March 2025

Issue Notice of Ready for Environmental Analysis—March 2025

o. Final amendments to the application must be filed with the Commission no later than 30 days from the issuance date of the notice of ready for environmental analysis.

Dated: October 15, 2024.
Debbie-Anne A. Reese,
Secretary.

[FR Doc. 2024-24378 Filed 10-21-24; 8:45 am]

BILLING CODE 6717-01-P